DEPARTMENT OF HEALTH AND HUMAN SERVICES

Health Care Financing Administration

42 CFR Part 422

Medicare + Choice Program

CFR Correction

In Title 42 of the Code of Federal Regulations, parts 400 to 429, revised as of Oct. 1, 2000, in part 422, on page 777, § 422.156 is corrected by correctly revising paragraph (e)(1) to read as follows:

§ 422.156 Compliance deemed on the basis of accreditation.

* * * * *

(e) * * *

(1) HCFA determines, on the basis of its own investigation, that the M+C organization does not meet the Medicare requirements for which deemed status was granted.

* * * * *

[FR Doc. C1-55504 Filed 3-7-01; 8:45 am]

BILLING CODE 1505-01-D